DEPARTMENT OF COMMERCE

International Trade Administration

[C-533-844]

Certain Lined Paper Products From India: Final Results of Countervailing Duty Administrative Review; 2022

AGENCY: Enforcement and Compliance, International Trade Administration, Department of Commerce.

SUMMARY: The U.S. Department of Commerce (Commerce) determines that certain producers and exporters of certain lined paper products (lined paper) from India received countervailable subsidies during the period of review (POR) January 1, 2022, through December 31, 2022.

DATES: Applicable May 14, 2025.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On October 10, 2024, Commerce published the Preliminary Results of this administrative review in the Federal Register and invited interested parties to comment.¹ On February 25, 2025, Commerce released a Post-Preliminary Analysis Memorandum.² On December 9, 2024, Commerce tolled the deadline to issue the final results in this administrative review by 90 days.³ Accordingly, the deadline for these final results is now May 8, 2025.

¹ See Certain Lined Paper Products from India: Preliminary Results of Countervailing Duty Administrative Review; 2022, 89 FR 82212 (October 10, 2024) (Preliminary Results), and accompanying Preliminary Decision Memorandum.

² See Memorandum, “Decision Memorandum for the Post-Preliminary Analysis of the Administrative Review of the Countervailing Duty Order on Certain Lined Paper Products from India; 2022,” dated February 27, 2025 (Post-Preliminary Analysis).

³ See Memorandum, “Tolling of Deadlines for Antidumping and Countervailing Duty Proceedings,” dated December 9, 2024.

For a complete description of the events that occurred since the Preliminary Results, see the Issues and Decision Memorandum.⁴ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Results of Administrative Review of the Countervailing Duty Order: Certain Lined Paper Products from India; 2022,” dated concurrently with, and hereby adopted by, this notice (Issues and Decision Memorandum).

Scope of the Order ⁵

⁵ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

The product covered by this Order is lined paper. For a complete description of the scope of this Order, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁶ The subsidy programs under review, and the issues raised in case and rebuttal briefs submitted by the interested parties, are discussed in the Issues and Decision Memorandum.

⁶ See sections 771(5)(B) and (D) of the Act regarding financial contribution; section 771(5)(E) of the Act regarding benefit; and section 771(5A) of the Act regarding specificity.

Changes Since the Preliminary Results

Based on a review of the record and comments received from interested parties regarding our Preliminary Results, and for the reasons explained in the Issues and Decision Memorandum, we made no modifications to our calculations for these final results of review.

Final Results of Administrative Review

We determine the following net countervailable subsidy rate exists for the period January 1, 2022, through December 31, 2022:

Company | Subsidy rate (percent ad valorem)
Navneet Education Limited | 2.50

Disclosure

Because Commerce has not modified its analysis or calculations from the Preliminary Results and Post-Preliminary Analysis, there are no new calculations to disclose for these final results of review.

Assessment Rates

Pursuant to section 751(a)(2)(C) of the Act and 19 CFR 351.212(b)(2), Commerce has determined, and CBP shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate (9.42 percent) ⁷ applicable to the company, as appropriate. These cash deposits, when imposed, shall remain in effect until further notice.

⁷ See Order, 71 FR at 56953.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and terms of an APO is a violation subject to sanction.

Notice to Interested Parties

These final results are issued and published in accordance with sections 751(a)(1) and 777(i)(1) of the Act, and 19 CFR 351.221(b)(5).

Dated: May 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation Information

V. Analysis of Programs

VI. Discussion of the Issue

Comment: Whether Commerce Erred in Preliminarily Determining the GOI's Accelerated Depreciation for Renewable Energy Assets Program is not Countervailable.

VII. Recommendation

[FR Doc. 2025-08524 Filed 5-13-25; 8:45 am]

BILLING CODE 3510-DS-P